DEPARTMENT OF JUSTICE

Notice Pursuant to the National Cooperative Research and Production Act of 1993—Community Associations Institute

Notice is hereby given that, on September 20, 2004, pursuant to section 6(a) of the National Cooperative Research and Production Act of 1993, 15 U.S.C. 4301 et seq. (“the Act”), Community Associations Institute (“CAI”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: Community Associations Institute, Alexandria, VA. The nature and scope of CAI's standards development activities are: To award qualified professionals who have met established standards with a range of designations in order to improve the quality and effectiveness of community management, community association management companies, reserve professionals and insurance professionals serving community associations.

Dorothy B. Fountain,
Deputy Director of Operations, Antitrust Division.

[FR Doc. 05-5887 Filed 3-24-05; 8:45 am]

BILLING CODE 4410-11-M